DEPARTMENT OF AGRICULTURE

Submission for OMB Review; Comment Request

August 19, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 23, 2021 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Pandemic Electronic Benefit Transfer (P-EBT).

OMB Control Number: 0584-0660.

Summary of Collection: This is a revision of the currently approved information collection. The Families First Coronavirus Response Act of 2020 (FFCRA, Pub. L. 116-127), enacted March 18, 2020, included a general provision that allows the Department of Agriculture to approve state plans to provide temporary emergency Supplemental Nutrition Assistance Program (SNAP) assistance to households with children who would otherwise receive free or reduced-price meals if not for their schools being closed due to the COVID-19 emergency (also known as Pandemic EBT, or P-EBT). The authority for P-EBT under FFCRA expired on September 30, 2020. The Continuing Appropriations Act, 2021 and Other Extensions Act (Pub. L. 116-159), enacted October 1, 2020 extended the authority for P-EBT through September 30, 2021. This legislation also expanded the program to include childcare facilities affected by the closures and schools with reduced attendance hours. The Consolidated Appropriations Act, 2021 (Pub. L. 116-260), enacted December 27, 2020, provided additional eligibility requirements and State flexibilities for both school and childcare components of this program. The American Rescue Plan Act, 2021 (Pub. L. 117-2) enacted March 11, 2021, added a summer component to P-EBT for school children and children in childcare and extended P-EBT through the end of COVID-19 emergency declaration.

Need and Use of the Information: This information collection is necessary to ensure that households impacted by COVID-19 receive emergency food assistance and that State agencies and schools receive reimbursement of their administrative costs.

States impacted by COVID-19 could issue P-EBT benefits to SNAP (currently participating in SNAP) and non-SNAP (not currently participating in SNAP) households with children who have temporarily lost access to free or reduced-price school meals due to pandemic related school closures, reduced school hours, or reduced school attendance. These households are eligible for P-EBT if they meet the following eligibility standards:

• Households include a child or children who, if not for a COVID-19 related school closure, reduced school hours, or reduced school attendance, would have received a receive free or reduced-price school meals under the Richard B. Russell National School Lunch Act, as amended, and

• The child's school has been closed, had reduced hours, or reduced attendance due to pandemic for at least 5 consecutive days.

FNS will provide funding to each State's SNAP State agency for 100% of P-EBT-related administrative costs. Such funding will be available for the necessary, allowable, and reasonable State agency and school costs associated with the administration of P-EBT incurred during FY 2021. This includes administrative costs associated with the issuance of retroactive FY 2020 benefits incurred in FY 2021. States interested in the 100% funding will be expected to submit a P-EBT administrative cost plan for the intended period of operations for USDA approval.

The estimates for the number of burden hours have increased from the numbers included in the original 60 Day Notice by 12,844,628 burden hours. There were 27 burden hours added due to a reporting requirement which was mistakenly omitted when the 60 Day Notice was published. As a result, from comment received to add burden for the time it takes schools to provide eligibility data to State agencies and for State agencies to determine eligibility and complete administrative costs plans. There is an increase of 12,844,601 burden hours.

Description of Respondents: State Agencies, Private Sector (Business-not-for profit), Individuals and Households.

Number of Respondents: 675,820.

Frequency of Responses: Reporting: Once, Quarterly, Annually.

Total Burden Hours: 16,529,556.

Ruth Brown,
Departmental Information Collection Clearance Officer.

[FR Doc. 2021-18155 Filed 8-23-21; 8:45 am]

BILLING CODE 3410-30-P